DEPARTMENT OF AGRICULTURE

Food and Nutrition Service

Agency Information Collection Activities: Regional Office Administered Program Forms for the Child and Adult Care Food Program

AGENCY: Food and Nutrition Service, USDA.

ACTION: Notice.

SUMMARY: In accordance with the Paperwork Reduction Act of 1995, this notice invites the public to comment on the proposed Food and Nutrition Service (FNS) forms which are used in the administration of the Child and Adult Care Food Program (CACFP) for sponsoring organizations whose participation in this program is administered directly by the FNS Mid-Atlantic Regional Office (FNS-MARO). This type of program is known as a Regional Office Administered Program (ROAP). FNS-MARO directly administers participation in the CACFP in Virginia.

DATES: Written comments must be submitted on or before October 25, 2004.

ADDRESSES: Send comments and requests for copies of this information collection to Terry A. Hallberg, Chief, Program Analysis and Monitoring Branch, Child Nutrition Division, Food and Nutrition Service, USDA, 3101 Park Center Drive, Room 640, Alexandria, Virginia 22302.

Comments are invited on: (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on respondents, including through the use of automated collection techniques or other forms of information technology.

All responses to this notice will be summarized and included in the request for OMB approval. All comments will also become a matter of public record.

FOR FURTHER INFORMATION CONTACT: Terry Hallberg, (703) 305-2590.

SUPPLEMENTARY INFORMATION: Title: 7 CFR Part 226, Child and Adult Care Food Program Regulations.

OMB Number: To be assigned.

Expiration Date of Approval: To be assigned.

Type of Request: New collection.

Abstract: This request is being made because the forms in this collection are being removed from OMB Collection 0584-0055, which implements data collection for the CACFP. These forms will be used only for the administration of the CACFP in the CACFP ROAP directly administered in Virginia by the FNS-MARO. OMB Collection 0584-0055 will continue to maintain the burden for the activities associated with the collection of information in the administration of the CACFP in all State agencies other than the CACFP ROAP in Virginia. However, there will not be forms associated with these burdens, since each State agency develops its own forms to implement the administrative requirements. This request also makes changes to two of the forms which are being removed from OMB Collection to conform these forms to the requirements of the management information and payment system of the Child Nutrition Payment Center.

The following describes the uses and justification for each form being transferred to this collection, along with the changes requested for two of the forms.

1. Form FNS 341, Application for Participation for Day Care Homes, Child Care, and Adult Care Centers. For family day care homes and child/adult care centers participating under a sponsoring organization, the sponsoring organization must certify the applications of all facilities under its jurisdiction. The information on this form enables FNS-MARO to determine that a family day care home or child/adult care center meets the qualifications for receiving benefits under the program.

2. Form FNS 342, Application for Participation and Management Plan for Sponsoring Organizations in the CACFP. Each sponsoring organization and independent center applying for participation in the CACFP must provide information to show that it is capable of exercising complete administrative and financial responsibility for the operation of its food service under the program and complying with all applicable statutes and regulations. Form FNS 342 is being divided into FNS 342-A for child/adult care independent centers and sponsors of child/adult care centers, and FNS 342-B, for sponsors of family day care homes. In the Child Nutrition Payment Center management information system, application information is collected and recorded separately for child/adult care independent centers and sponsoring organizations and for family day care home sponsoring organizations. The data elements for each type of entity are the same as the current form FNS 342, but each of the new forms only has the specific data elements which are relevant to the type of entity to which the form applies. Internet versions of Forms FNS 342-A and FNS 342-B will be available via a secure Internet application for independent centers and sponsoring organizations who wish to submit changes to the application information and the annual application renewal electronically. Sponsors who do not wish to submit electronically will submit paper copies of the forms to the FNS-MARO, where the data will be entered into the Child Nutrition Payment Center management information system.

3. Form FNS 82, Child and Adult Food Care Program Claim for Reimbursement. Each sponsoring organization which has entered into an agreement with the FNS-MARO to operate the CACFP must provide information each month on the number and types of facilities operated, the number, type, and eligibility category of meals served, and, for family day care home sponsors, the costs of administering the Program. This information is used by the Child Nutrition Payment Center to compute the reimbursement due to each institution. Form FNS 82 is being divided into FNS 82-A, Claim for Reimbursement-Child/Adult Care Centers, and FNS 82-B, Claim for Reimbursement, Family Day Care Home Sponsoring Organizations. In the Child Nutrition Payment Center system, claims for reimbursement are collected and recorded separately for child/adult care independent centers and sponsoring organizations and for family day care home sponsoring organizations. The data elements for each type of entity are the same as the current form FNS 82, but each of the new forms only has the specific data elements which are relevant to the type of entity to which the form applies. Internet versions of Forms FNS 82-A and FNS 82-B will be available via a secure Internet application for independent centers and sponsoring organizations who wish to monthly claims electronically; sponsors who do not wish to submit electronically will submit paper copies of the forms to the FNS-MARO, where the claim for reimbursement will be entered into the Child Nutrition Payment Center system. All sponsors receive reimbursement payments via electronic funds transfer, whether the claim is submitted electronically or on paper.

4. Form FNS 344, Agreement (CACFP). This form is the contractual agreement that FNS executes with a sponsoring organization for participation in the Program. The agreement stipulates the institution's obligations in assuming administrative and financial obligations for Program operations.

5. Form FNS 430, Application for Start-Up Payments for Family Day Care Home Sponsoring Organizations. Sponsoring organizations of family day care homes may be eligible to receive administrative funds for initiating or expanding food service operations in family day care homes. The information a sponsor provides on this form enables FNS-MARO to determine the approval or denial of a request for start-up administrative payments.

6. Form FNS 431, Agreement Between Sponsoring Organization and USDA for Start-Up Payments. This form authorizes the use of administrative funds to initiate or expand a food service program at family day care homes. An eligible sponsoring organization may enter into an agreement with USDA to use these funds for start up or expansion activities.

7. Form FNS 433, Agreement Between Sponsoring Organizations and Family Day Care Homes. The respective rights and responsibilities of sponsoring organizations and family day care home providers are specified on this form. Each sponsoring organization of family day care homes is required to execute an agreement with each provider participating in the program under its sponsorship.

BILLING CODE 3410-30-P

Dated: August 10, 2004.
Roberto Salazar,
Administrator.

[FR Doc. 04-19428 Filed 8-24-04; 8:45 am]

BILLING CODE 3410-30-C